INTERNATIONAL TRADE COMMISSION

[ Inv. No. 337-TA-807]

In the Matter of Certain Digital Photo Frames and Image Display Devices and Components Thereof; Notice of Institution of Investigation Institution of Investigation Pursuant to 19 U.S.C. 1337

AGENCY: U.S. International Trade Commission.

ACTION: Notice.

SUMMARY: Notice is hereby given that a complaint was filed with the U.S. International Trade Commission on August 24, 2011, under section 337 of the Tariff Act of 1930, as amended, 19 U.S.C. 1337, on behalf of Technology Properties Limited, LLC of Cupertino, California. A letter supplementing the complaint was filed on September 14, 2011. The complaint, as supplemented, alleges violations of section 337 based upon the importation into the United States, the sale for importation, and the sale within the United States after importation of certain digital photo frames and image display devices and components thereof by reason of infringement of certain claims of U.S. Patent No. 6,976,623 (“the ′623 patent”); U.S. Patent No. 7,162,549 (“the ′549 patent”); U.S. Patent No. 7,295,443 (“the ′443 patent”); and U.S. Patent No. 7,522,424 (“the ′424 patent”). The complaint further alleges that an industry in the United States exists as required by subsection (a)(2) of section 337.

The complainant requests that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the complaint, the U.S. International Trade Commission, on September 21, 2011, ordered that—

(1) Pursuant to subsection (b) of section 337 of the Tariff Act of 1930, as amended, an investigation be instituted to determine whether there is a violation of subsection (a)(1)(B) of section 337 in the importation into the United States, the sale for importation, or the sale within the United States after importation of certain digital photo frames and image display devices and components thereof that infringe one or more of claims 1, 2, 9, 10, 17, and 18 of the ′623 patent; claims 1, 7, 11, 17, 19, and 21 of the ′549 patent; claims 1, 3, 4, 7, 9, 11, 12, and 14 of the ′443 patent; and claims 25, 26, 28, and 29 of the ′424 patent, and whether an industry in the United States exists as required by subsection (a)(2) of section 337;

(2) For the purpose of the investigation so instituted, the following are hereby named as parties upon which this notice of investigation shall be served:

(a) The complainant is:

Technology Properties Limited, LLC, 20883 Stevens Creek Boulevard, Suite 100, Cupertino, CA 95014.

(b) The respondents are the following entities alleged to be in violation of section 337, and are the parties upon which the complaint is to be served:

Action Electronics Co., Ltd., No. 198, Zhongyuan Road, Zhongli City, Taoyuan, County 320, Taiwan.

Aiptek International Inc., No. 19, Industry E. Road IV. Science Park, Hsinchu 300, Taiwan.

Aluratek, Inc., 14831 Myford Road, Tustin, CA 92780.

Audiovox Corporation, 180 Marcus Boulevard, Happauge, NY 11788.

CEIVA Logic, Inc., 214 E. Magnolia Boulevard, Burbank, CA 91502.

Circus World Displays Ltd., 4080 Montrose Road, Niagara Falls, L2H 1J9, Canada.

Coby Electronics Corporation, 1991 Marcus Avenue, Suite 301, Lake Success, NY 11042.

Curtis International, Ltd., 315 Attwell Drive, Etobicoke, Ontario, M9W 5C1, Canada.

Digital Spectrum Solutions, Inc., 17821 Mitchell N, Irvine, CA 92614.

Eastman Kodak Company, 343 State Street, Rochester, NY 14650.

Mustek Systems, Inc., 25, R&D Road II, Science-Based Industrial Park, Hsin Chu, Taiwan.

Nextar Inc., 1661 Fairplex Drive, La Verne, CA 91750.

Pandigital, 6375 Clark Avenue, Suite 100, Dublin, CA 94568.

Royal Consumer Information Products, Inc., 379 Campus Drive, Somerset, NJ 08875.

Sony Corporation, 1-7-1 Konan, Minato-ku, Tokyo 108-0075, Japan.

Sony Corporation of America, 550 Madison Avenue, New York, NY 10022.

Transcend Information, Inc., No. 70, XingZhong Road, NeiHu District, Taipei, Taiwan.

ViewSonic Corporation, 381 Brea Canyon Road, Walnut, CA 91789.

Win Accord Ltd., 12F, No. 225, Sec. 5, Nan Jing E. Road, Song Shan District, Taipei, Taiwan 105.

WinAccord U.S.A., Inc., 2526 Qume Drive, Suite 24, San Jose, CA 95131.

(c) The Office of Unfair Import Investigations, U.S. International Trade Commission, 500 E Street, SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: September 21, 2011.
James R. Holbein,
Secretary to the Commission.

[FR Doc. 2011-24730 Filed 9-26-11; 8:45 am]

BILLING CODE 7020-02-P